DEPARTMENT OF DEFENSE

Department of the Army

Record of Decision for the Piñon Canyon Maneuver Site Training and Operations Final Environmental Impact Statement

AGENCY: Department of the Army, DoD.

ACTION: Notice of availability.

SUMMARY: The Department of the Army and Fort Carson announce the decision to conduct training using new tactics, equipment, infrastructure improvements, and management methods at Piñon Canyon Maneuver Site (PCMS), CO. The action was the preferred alternative identified in the Final Environmental Impact Statement (EIS) for proposed training and operations at PCMS. PCMS is the maneuver site for Fort Carson and is located near Trinidad, CO, approximately 150 miles southeast of Fort Carson. The Record of Decision (ROD) explains the potential environmental and socioeconomic impacts associated with the selected action, which is to conduct realistic, coordinated, large-scale training that integrates the ground and air resources of Fort Carson's mechanized, infantry, support, and combat aviation units. The selected alternative provides the proper balance of initiatives for the protection of environmental and mission-essential actions. The ROD also adopts mitigation that will reduce or eliminate adverse impacts.

The selected action will establish new brigade-level training intensity measures, update brigade training and equipment requirements, enable the Stryker family of vehicles to train at PCMS, and add enhanced readiness training, to include new activities and infrastructure at PCMS. The action does not include, nor would it require, land expansion of PCMS.

ADDRESSES: The ROD can be obtained at http://www.carson.army.mil/DPW/nepa.html. Written requests to obtain a copy of the ROD may be sent by email to usarmy.carson.imcom-central.list.dpw-ed-nepa@mail.mil or by postal service to the Fort Carson NEPA Program Manager, Directorate of Public Works, Environmental Division, 1626 Evans Street, Building 1219, Fort Carson, CO 80913-4362.

FOR FURTHER INFORMATION CONTACT: The Fort Carson Public Affairs Office at (719) 526-7525, Monday through Friday, 7:30 a.m. to 4 p.m. MST; or by email to: usarmy.carson.hqda-ocpa.list.pao-officer@mail.mil.

SUPPLEMENTARY INFORMATION: The Final EIS examined the potential environmental and socioeconomic impacts from implementing the proposed establishment and use of brigade-level training intensity measures, as well as the proposed readiness training using new tactics, equipment, and infrastructure improvements at PCMS. The selected action best meets the Army's need to conduct realistic and coordinated large-scale training that integrates the ground and air resources of assigned and visiting units including mechanized, infantry, support, and combat aviation assets.

The selected action establishes new brigade-level training intensity measures and limits such training to 4.7 months per year to allow for sufficient time for training land to sustainably recover from training events. The action updates brigade training period equipment compositions and training methods, and enables the Stryker family of vehicles to train at PCMS. The action also introduces new training activities and training infrastructure changes at PCMS. Training activities include electronic jamming systems, laser target sighting, tactical demolition, unmanned and unarmed aerial reconnaissance systems, and light unmanned ground vehicle training. In terms of training infrastructure, PCMS will establish two new drop-zones, and restricted airspace directly over PCMS for use during periods when training activity poses a hazard to non-participating aircraft. Soldier training will be entirely within the existing boundaries of PCMS, except for limited air and convoy operations. The decision does not include, nor would it require, any land expansion of PCMS. No additional land will be sought or acquired as a result of this action.

The ROD incorporates analysis contained in the Final EIS for PCMS training and operations, including comments provided during formal comment and review periods. The ROD also considered all comments and new reference citations provided during the waiting period, a period that was initiated when the Notice of Availability for the Final EIS was published in the Federal Register on March 13, 2015 (80 FR 13352). The Army took this material into account in making its decision, but determined that it did not constitute significant new information relevant to environmental concerns that would require supplementation of the FEIS. Comments received and the Army responses are summarized in the ROD.

Implementation of this decision is expected to result in direct, indirect, and cumulative impacts, to include potentially significant impacts to soils, vegetation, wildlife, and water resources. To minimize the potential adverse impacts from implementation of the preferred alternative, the Army will mitigate these effects through a variety of strategies, as described in the ROD.

Brenda S. Bowen,
Army Federal Register Liaison Officer.

[FR Doc. 2015-13045 Filed 5-28-15; 8:45 am]

BILLING CODE 3710-08-P